DEPARTMENT OF THE TREASURY

Submission for OMB Review; Comment Request

December 15, 2009.

The Department of Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury PRA Department Clearance Officer, Department of the Treasury, Room 11010, and 1750 Pennsylvania Avenue, NW., Washington, DC 20220.

Dates: Written comments should be received on or before January 20, 2010 to be assured of consideration.

Internal Revenue Service (IRS)

OMB Number: 1545-0054.

Type of Review: Extension.

Title: Ownership Certificate.

Form: 1000.

Description: Form 1000 is used by citizens, resident individuals, fiduciaries, partnerships and nonresident partnerships in connection with interest on bonds of a domestic, resident foreign, or nonresident foreign corporation containing a tax-free covenant and issued before January 1, 1934. IRS uses the information to verify that the correct amount of tax was withheld.

Respondents: Businesses or other for-profits.

Estimated Total Burden Hours: 5,040 hours.

OMB Number: 1545-0938.

Type of Review: Extension.

Title: 1120-IC-DISC, Interest Charge Domestic International Sales Corporation Return; Schedule K, Shareholder's Statement of IC-DISC Distributions; Schedule P, Intercompany Transfer Price * * *

Form: 1120-IC-DISC, 1120-IC-DISC (Sch. K), 1120-IC-DISC (Sch. P).

Description: U.S. Corporations that have elected to be an interest charge domestic international sales corporation (IC-DISC) file Form 1120 IC-DISC to report their income and deductions. The IC-DISC is not taxed, but IC-DISC shareholders are taxed on their share of IC- DISC income. IRS uses Form 1120-IC-DISC to check the IC-DISC's computation of income. Schedule K (Form 1120-IC-DISC) is used to report income to shareholders; Schedule P (Form 1120-IC-DISC) is used by the IC-DISC to report its dealing with related suppliers, etc.

Respondents: Businesses or other for-profits.

Estimated Total Burden Hours: 242,340 hours.

Clearance Officer: R. Joseph Durbala (202) 622-3634, Internal Revenue Service, Room 6516, 1111 Constitution Avenue, NW., Washington, DC 20224.

OMB Reviewer: Shagufta Ahmed (202) 395-7873, Office of Management and Budget, Room 10235, New Executive Office Building, Washington, DC 20503.

Celina M. Elphage,
Treasury PRA Clearance Officer.

[FR Doc. E9-30258 Filed 12-18-09; 8:45 am]

BILLING CODE 4830-01-P